DEPARTMENT OF COMMERCE

International Trade Administration

[C-351-861, C-834-813, C-557-829, C-821-839]

Ferrosilicon From Brazil, Kazakhstan, Malaysia, and the Russian Federation: Initiation of Countervailing Duty Investigations

AGENCY: Enforcement and Compliance, International Trade Administration, Department of Commerce.

DATES: Applicable April 17, 2024.

FOR FURTHER INFORMATION CONTACT: Bob Palmer or Laurel Smalley (Brazil), Lana Nigro (Kazakhstan), John McGowan or Suresh Maniam (Malaysia), and Mark Hoadley (the Russian Federation (Russia)), AD/CVD Operations, Offices VIII, VII, and I, Enforcement and Compliance, International Trade Administration, U.S. Department of Commerce, 1401 Constitution Avenue NW, Washington, DC 20230; telephone: (202) 482-9068, (202) 482-3456, (202) 482-1779, (202) 482-0461, (202) 482-1603, and (202) 482-3148, respectively.

SUPPLEMENTARY INFORMATION:

The Petitions

On March 28, 2024, the U.S. Department of Commerce (Commerce) received countervailing duty (CVD) petitions concerning imports of ferrosilicon from Brazil, Kazakhstan, Malaysia, and Russia filed in proper form on behalf of CC Metals and Alloys, LLC and Ferroglobe USA, Inc. (the petitioners).¹ The CVD petitions were accompanied by antidumping duty (AD) petitions concerning imports of ferrosilicon from Brazil, Kazakhstan, Malaysia, and Russia.²

¹ See Petitioners' Letter, “Petitions for the Imposition of Antidumping and Countervailing Duties,” dated March 28, 2024 (the Petitions).

² Id.

Between April 1 and 2, 2024, Commerce requested supplemental information pertaining to certain aspects of the Petitions.³ Between April 3 and 8, 2024, the petitioners filed timely responses to these requests for additional information.⁴

³ See Commerce's Letters, “Petition for the Imposition of Countervailing Duties on Imports of Ferrosilicon from Brazil: Supplemental Questions,” dated April 1, 2024; “Petition for the Imposition of Countervailing Duties on Imports of Ferrosilicon from Kazakhstan: Supplemental Questions Regarding Volume V,” dated April 2, 2024; “Petition for the Imposition of Countervailing Duties on Imports of Ferrosilicon from Malaysia: Supplemental Questions,” dated April 1, 2024; “Petition for the Imposition of Countervailing Duties on Imports of Ferrosilicon from the Russian Federation: Supplemental Questions regarding Volume IX,” dated April 1, 2024; and “Petitions for the Imposition of Antidumping and Countervailing Duties on Imports of Ferrosilicon from Brazil, Kazakhstan, Malaysia, and the Russian Federation: Supplemental Questions,” dated April 1, 2024.

⁴ See Petitioners' Letters, “Petitioners' Response to Supplemental Questions—General Issues,” dated April 3, 2024 (General Issues Supplement); “Ferrosilicon from Brazil: Response to Supplemental Questionnaire for Volume III of the Petition,” dated April 5, 2024; “Ferrosilicon from Kazakhstan: Response to Supplemental Questionnaire for Volume V of the Petition,” dated April 8, 2024; “Ferrosilicon from Malaysia: Response to Supplemental Questions for Volume VII of the Petition,” dated April 3, 2024; and “Ferrosilicon from the Russian Federation: Response to Supplemental Questions Regarding Volume IX of the Petition,” dated April 5, 2024.

In accordance with section 702(b)(1) of the Tariff Act of 1930, as amended (the Act), the petitioners allege that the Government of Brazil (GOB), the Government of Kazakhstan (GOK), the Government of Malaysia (GOM), and the Government of Russia (GOR) (collectively, Governments) are providing countervailable subsidies, within the meaning of sections 701 and 771(5) of the Act, to producers of ferrosilicon from Brazil, Kazakhstan, Malaysia, and Russia, and that such imports are materially injuring, or threatening material injury to, the domestic industry producing ferrosilicon in the United States. Consistent with section 702(b)(1) of the Act and 19 CFR 351.202(b), for those alleged programs on which we are initiating CVD investigations, the Petitions were accompanied by information reasonably available to the petitioners supporting their allegations.

Commerce finds that the petitioners filed the Petitions on behalf of the domestic industry because the petitioners are interested parties as defined in section 771(9)(C) of the Act. Commerce also finds that the petitioners demonstrated sufficient industry support with respect to the initiation of the requested CVD investigations.⁵

⁵ See section on “Determination of Industry Support for the Petitions,” infra.

Periods of Investigation

Because the Petitions were filed on March 28, 2024, the periods of investigation (POI) for Brazil, Kazakhstan, Malaysia, and Russia are January 1, 2023, through December 31, 2023.⁶

⁶ See 19 CFR 351.204(b)(2).

Scope of the Investigations

The merchandise covered by these investigations is ferrosilicon from Brazil, Kazakhstan, Malaysia, and Russia. For a full description of the scope of these investigations, see the appendix to this notice.

Comments on the Scope of the Investigations

As discussed in the Preamble to Commerce's regulations, we are setting aside a period for interested parties to raise issues regarding product coverage (i.e., scope).⁷ Commerce will consider all comments received from interested parties and, if necessary, will consult with interested parties prior to the issuance of the preliminary determinations. If scope comments include factual information, all such factual information should be limited to public information.⁸ To facilitate preparation of its questionnaires, Commerce requests that scope comments be submitted by 5:00 p.m. Eastern Time (ET) on May 7, 2024, which is 20 calendar days from the signature date of this notice.⁹ Any rebuttal comments, which may include factual information, must be filed by 5:00 p.m. ET on May 17, 2024, which is 10 calendar days from the initial comment deadline.

⁷ See Antidumping Duties; Countervailing Duties; Final Rule, 62 FR 27296, 27323 (May 19, 1997) (Preamble).

⁸ See 19 CFR 351.102(b)(21) (defining “factual information”).

⁹ See 19 CFR 351.303(b)(1).

Commerce requests that any factual information that parties consider relevant to the scope of the investigations be submitted during that time period. However, if a party subsequently finds that additional factual information pertaining to the scope of the investigations may be relevant, the party must contact Commerce and request permission to submit the additional information. All scope comments must be filed simultaneously on the records of the concurrent AD and CVD investigations.

Filing Requirements

All submissions to Commerce must be filed electronically via Enforcement and Compliance's Antidumping Duty and Countervailing Duty Centralized Electronic Service System (ACCESS), unless an exception applies.¹⁰ An electronically filed document must be received successfully in its entirety by the time and date it is due.

¹⁰ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the Governments of the receipt of the Petitions and provided an opportunity for consultations with respect to the Petitions.¹¹ Commerce held consultations with the GOB on April 10, 2024,¹² the GOK on April 17, 2024,¹³ the GOM on April 16, 2024,¹⁴ and the GOR on April 9, 2024.¹⁵

¹¹ See Commerce's Letters, “Countervailing Duty Petition on Ferrosilicon from Brazil: Invitation for Consultations to Discuss the Countervailing Duty Petition,” dated April 1, 2024; “Invitation for Consultations to Discuss the Countervailing Duty Petition on Ferrosilicon from Kazakhstan,” dated March 29, 2024; “Countervailing Duty Petition on Ferrosilicon from Malaysia: Invitation for Consultations to Discuss the Countervailing Duty Petition,” dated March 28, 2024; and “Invitation for Consultations to Discuss the Countervailing Duty Petition on Ferrosilicon from the Russian Federation,” dated March 28, 2024.

¹² See Memorandum, “Consultations with Officials from the Government of Brazil,” dated April 11, 2024.

¹³ See Memorandum, “Consultations with Officials from the Government of Kazakhstan,” dated April 17, 2024.

¹⁴ See Memorandum, “Consultations with the Government of Malaysia,” dated April 16, 2024.

¹⁵ See Memorandum, “Consultations with the Government of Russia Regarding the Countervailing Duty Petition on Ferrosilicon from the Russian Federation,” dated April 9, 2024.

Determination of Industry Support for the Petitions

Section 702(b)(1) of the Act requires that a petition be filed on behalf of the domestic industry. Section 702(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC apply the same statutory definition regarding the domestic like product,¹⁶ they do so for different purposes and pursuant to a separate and distinct authority. In addition, Commerce's determination is subject to limitations of time and information. Although this may result in different definitions of the like product, such differences do not render the decision of either agency contrary to law.¹⁷

¹⁶ See section 771(10) of the Act.

¹⁷ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.¹⁸ Based on our analysis of the information submitted on the record, we have determined that ferrosilicon, as described in the domestic like product definition set forth in the Petitions, constitutes a single domestic like product, and we have analyzed industry support in terms of that domestic like product.¹⁹

¹⁸ See Petitions at Volume I (pages 15-18 and Exhibits I-1 and I-9).

¹⁹ For a discussion of the domestic like product analysis as applied to these cases and information regarding industry support, see CVD Investigation Initiation Checklists: Ferrosilicon from Brazil, Kazakhstan, Malaysia, and the Russian Federation, dated concurrently with, and hereby adopted by, this notice (Country-Specific CVD Initiation Checklists), at Attachment II, Analysis of Industry Support for the Antidumping and Countervailing Duty Petitions Covering Ferrosilicon from Brazil, Kazakhstan, Malaysia, and the Russian Federation (Attachment II). These checklists are on file electronically via ACCESS.

In determining whether the petitioners have standing under section 702(c)(4)(A) of the Act, we considered the industry support data contained in the Petitions with reference to the domestic like product as defined in the “Scope of the Investigations,” in the appendix to this notice. To establish industry support, the petitioners provided their own production of the domestic like product in 2023.²⁰ The petitioners stated that there are no other known producers of ferrosilicon in the United States and provided information to support their claim; therefore, the Petitions are supported by 100 percent of the U.S. industry.²¹ We relied on data provided by the petitioners for purposes of measuring industry support.²²

²⁰ See Petitions at Volume I (page 3 and Exhibit I-4); see also General Issues Supplement at 5.

²¹ See Petitions at Volume I (pages 2-3 and Exhibit I-3); see also General Issues Supplement at 4 and Attachment 2.

²² See Petitions at Volume I (pages 2-3 and Exhibits I-3 and I-4); see also General Issues Supplement at 4-5 and Attachment 2. For further discussion, see Attachment II of the Country-Specific CVD Initiation Checklists.

Our review of the data provided in the Petitions, the General Issues Supplement, and other information readily available to Commerce indicates that the petitioners have established industry support for the Petitions.²³ First, the Petitions established support from domestic producers (or workers) accounting for more than 50 percent of the total production of the domestic like product and, as such, Commerce is not required to take further action to evaluate industry support (e.g., polling).²⁴ Second, the domestic producers (or workers) have met the statutory criteria for industry support under section 702(c)(4)(A)(i) of the Act because the domestic producers (or workers) who support the Petitions account for at least 25 percent of the total production of the domestic like product.²⁵ Finally, the domestic producers (or workers) have met the statutory criteria for industry support under section 702(c)(4)(A)(ii) of the Act because the domestic producers (or workers) who support the Petitions account for more than 50 percent of the production of the domestic like product produced by that portion of the industry expressing support for, or opposition to, the Petitions.²⁶ Accordingly, Commerce determines that the Petitions were filed on behalf of the domestic industry within the meaning of section 702(b)(1) of the Act.²⁷

²³ See Petitions at Volume I (pages 2-3 and Exhibits I-3 and I-4); see also General Issues Supplement at 4-5 and Attachment 2. For further discussion, see Attachment II of the Country-Specific CVD Initiation Checklists.

²⁴ See Attachment II of the Country-Specific CVD Initiation Checklists; see also section 702(c)(4)(D) of the Act.

²⁵ See Attachment II of the Country-Specific CVD Initiation Checklists.

²⁶ Id.

²⁷ Id.

Injury Test

Because Brazil, Kazakhstan, Malaysia, and Russia are “Subsidies Agreement Countries” within the meaning of section 701(b) of the Act, section 701(a)(2) of the Act applies to these investigations. Accordingly, the ITC must determine whether imports of the subject merchandise from Brazil, Kazakhstan, Malaysia, and/or Russia materially injure, or threaten material injury to, a U.S. industry.

Allegations and Evidence of Material Injury and Causation

The petitioners allege that imports of the subject merchandise are benefiting from countervailable subsidies and that such imports are causing, or threaten to cause, material injury to the U.S. industry producing the domestic like product. In addition, the petitioners allege that subject imports from Brazil, Kazakhstan, Malaysia, and Russia exceed the negligibility threshold provided for under section 771(24)(A) of the Act.²⁸

²⁸ See Petitions at Volume I (page 20 and Exhibit I-10).

The petitioners contend that the industry's injured condition is illustrated by the significant and increasing volume of subject imports; underselling and price depression and/or suppression; low capacity utilization rates; lost sales and revenues; and adverse effect on financial performance.²⁹ We assessed the allegations and supporting evidence regarding material injury, threat of material injury, causation, cumulation, as well as negligibility, and we have determined that these allegations are properly supported by adequate evidence and meet the statutory requirements for initiation.³⁰

²⁹ See Petitions at Volume I (pages 20-47 and Exhibits I-1, I-2, I-4, and I-8 through I-44).

³⁰ See Country-Specific CVD Initiation Checklists at Attachment III, Analysis of Allegations and Evidence of Material Injury and Causation for the Antidumping and Countervailing Duty Petitions Covering Ferrosilicon from Brazil, Kazakhstan, Malaysia, and the Russian Federation.

Initiation of CVD Investigations

Based upon the examination of the Petitions and supplemental responses, we find that they meet the requirements of section 702 of the Act. Therefore, we are initiating CVD investigations to determine whether imports of ferrosilicon from Brazil, Kazakhstan, Malaysia, and Russia benefit from countervailable subsidies conferred by the GOB, GOK, GOM, and the GOR, respectively. In accordance with section 703(b)(1) of the Act and 19 CFR 351.205(b)(1), unless postponed, we will make our preliminary determinations no later than 65 days after the date of these initiations.

Brazil

Based on our review of the Petitions, we find that there is sufficient information to initiate a CVD investigation on 19 of the programs alleged by the petitioners. For a full discussion of the basis for our decision to initiate on each program, see the Brazil CVD Initiation Checklist. A public version of the initiation checklist for this investigation is available on ACCESS.

Kazakhstan

Based on our review of the Petitions, we find that there is sufficient information to initiate a CVD investigation on all 21 of the programs alleged by the petitioners. For a full discussion of the basis for our decision to initiate on each program, see the Kazakhstan CVD Initiation Checklist. A public version of the initiation checklist for this investigation is available on ACCESS.

Malaysia

Based on our review of the Petitions, we find that there is sufficient information to initiate a CVD investigation on all 13 programs alleged by the petitioners. For a full discussion of the basis for our decision to initiate on each program, see the Malaysia CVD Initiation Checklist. A public version of the initiation checklist for this investigation is available on ACCESS.

Russia

Based on our review of the Petitions, we find that there is sufficient information to initiate a CVD investigation on all 23 of the programs alleged by the petitioners. For a full discussion of the basis for our decision to initiate on each program, see the Russia CVD Initiation Checklist. A public version of the initiation checklist for this investigation is available on ACCESS.

Respondent Selection

In the Petitions, the petitioners identify 11 companies in Brazil, five companies in Kazakhstan, two companies in Malaysia, and 11 companies in Russia as producers and/or exporters of ferrosilicon.³¹ With respect to Malaysia, the GOM provided comments in which it stated that there are four producers of ferrosilicon in Malaysia.³² Commerce intends to follow its standard practice in CVD investigations and calculate company-specific subsidy rates in these investigations. In the event that Commerce determines that the number of companies is large and it cannot individually examine each company based on Commerce's resources, where appropriate, Commerce intends to select respondents based on U.S. Customs and Border Protection (CBP) data for U.S. imports of ferrosilicon during the POI under the appropriate Harmonized Tariff Schedule of the United States subheadings listed within the “Scope of the Investigations” in the appendix.

³¹ See Petitions at Volume I (page 10 and Exhibit I-6).

³² See Memorandum, “Countervailing Duty Petition on Ferrosilicon from Malaysia: Government of Malaysia Statements for the Consultations,” dated April 16, 2024.

On April 11, 2024, Commerce released the CBP data for imports of ferrosilicon from Russia and, on April 12, 2024, from Brazil, Kazakhstan, and Malaysia under Administrative Protective Order (APO) to all parties with access to information protected by APO and indicated that interested parties wishing to comment regarding the CBP data and/or respondent selection must do so within three business days of the publication date of the notice of initiation of these investigations.³³ Comments must be filed electronically using ACCESS. An electronically filed document must be received successfully, in its entirety, by ACCESS no later than 5:00 p.m. ET on the date noted above. Commerce will not accept rebuttal comments regarding the CBP data or respondent selection.

³³ See Memoranda, “Countervailing Duty Petition on Ferrosilicon from Brazil: Release of Data from U.S. Customs and Border Protection,” dated April 12, 2024; “Countervailing Duty Petition on Ferrosilicon from Kazakhstan: Release of Data from U.S. Customs and Border Protection,” dated April 12, 2024; “Countervailing Duty Petition on Imports of Ferrosilicon from Malaysia: Release of U.S. Customs and Border Protection Entry Data,” dated April 12, 2024; and “Ferrosilicon from the Russian Federation: Release of Data from U.S. Customs and Border Protection,” dated April 10, 2024.

Interested parties must submit applications for disclosure under APO in accordance with 19 CFR 351.305(b). Instructions for filing such applications may be found on Commerce's website at https://www.trade.gov/administrative-protective-orders.

Distribution of Copies of the Petitions

In accordance with section 702(b)(4)(A) of the Act and 19 CFR 351.202(f), a copy of the public version of the Petitions has been provided to the GOB, GOK, GOM, and GOR via ACCESS. To the extent practicable, we will attempt to provide a copy of the public version of the Petitions to each exporter named in the Petitions, as provided under 19 CFR 351.203(c)(2).

ITC Notification

Commerce will notify the ITC of its initiation, as required by section 702(d) of the Act.

Preliminary Determination by the ITC

The ITC will preliminarily determine, within 45 days after the date on which the Petitions were filed, whether there is a reasonable indication that imports of ferrosilicon from Brazil, Kazakhstan, Malaysia, and/or Russia are materially injuring, or threatening material injury to, a U.S. industry.³⁴ A negative ITC determination for any country will result in the investigation being terminated with respect to that country.³⁵ Otherwise, these CVD investigations will proceed according to statutory and regulatory time limits.

³⁴ See section 703(a)(1) of the Act.

³⁵ Id.

Submission of Factual Information

Factual information is defined in 19 CFR 351.102(b)(21) as: (i) evidence submitted in response to questionnaires; (ii) evidence submitted in support of allegations; (iii) publicly available information to value factors of production under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ³⁶ and, if the information is submitted to rebut, clarify, or correct factual information already on the record, to provide an explanation identifying the information already on the record that the factual information seeks to rebut, clarify, or correct.³⁷ Time limits for the submission of factual information are addressed in 19 CFR 351.301, which provides specific time limits based on the type of factual information being submitted. Interested parties should review the regulations prior to submitting factual information in these investigations.

³⁶ See 19 CFR 351.301(b).

³⁷ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.³⁸ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in these investigations.³⁹

³⁸ See 19 CFR 351.302.

³⁹ See 19 CFR 351.301; see also Extension of Time Limits; Final Rule, 78 FR 57790 (September 20, 2013) (Time Limits Final Rule), available at https://www.gpo.gov/fdsys/pkg/FR-2013-09-20/html/2013-22853.htm.

Certification Requirements

Any party submitting factual information in an AD or CVD proceeding must certify to the accuracy and completeness of that information.⁴⁰ Parties must use the certification formats provided in 19 CFR 351.303(g).⁴¹ Commerce intends to reject factual submissions if the submitting party does not comply with the applicable certification requirements.

⁴⁰ See section 782(b) of the Act.

⁴¹ See Certification of Factual Information to Import Administration During Antidumping and Countervailing Duty Proceedings, 78 FR 42678 (July 17, 2013) (Final Rule); see also frequently asked questions regarding the Final Rule, available at https://enforcement.trade.gov/tlei/notices/factual_info_final_rule_FAQ_07172013.pdf.

Notification to Interested Parties

Interested parties must submit applications for disclosure under APO in accordance with 19 CFR 351.305. Parties wishing to participate in these investigations should ensure that they meet the requirements of 19 CFR 351.103(d) (e.g., by filing the required letters of appearance). Note that Commerce has amended certain of its requirements pertaining to the service of documents in 19 CFR 351.303(f).⁴²

⁴² See Administrative Protective Order, Service, and Other Procedures in Antidumping and Countervailing Duty Proceedings, 88 FR 67069 (September 29, 2023).

This notice is issued and published pursuant to sections 702 and 777(i) of the Act, and 19 CFR 351.203(c).

Dated: April 17, 2024.
Ryan Majerus,
Deputy Assistant Secretary for Policy and Negotiations, performing the non-exclusive functions and duties of the Assistant Secretary for Enforcement and Compliance.

Appendix

Scope of the Investigations

The scope of these investigations covers all forms and sizes of ferrosilicon, regardless of grade, including ferrosilicon briquettes. Ferrosilicon is a ferroalloy containing by weight four percent or more iron, more than eight percent but not more than 96 percent silicon, three percent or less phosphorus, 30 percent or less manganese, less than three percent magnesium, and 10 percent or less any other element. The merchandise covered also includes product described as slag, if the product meets these specifications.

Subject merchandise includes material matching the above description that has been finished, packaged, or otherwise processed in a third country, including by performing any grinding or any other finishing, packaging, or processing that would not otherwise remove the merchandise from the scope of the investigations if performed in the country of manufacture of the ferrosilicon.

Ferrosilicon is currently classifiable under subheadings 7202.21.1000, 7202.21.5000, 7202.21.7500, 7202.21.9000, 7202.29.0010, and 7202.29.0050 of the Harmonized Tariff Schedule of the United States (HTSUS). While the HTSUS numbers are provided for convenience and customs purposes, the written description of the scope remains dispositive.

[FR Doc. 2024-08675 Filed 4-23-24; 8:45 am]

BILLING CODE 3510-DS-P